DEPARTMENT OF DEFENSE

Department of the Army

Availability for Non-Exclusive, Exclusive, or Partially Exclusive Licensing of U.S. Patent Application Concerning Method for Treating, Preventing, or Inhibiting Enterotoxigenic Escherichia Coli Infections With Bovine Erythrocyte Preparations

AGENCY: Department of the Army, DoD.

ACTION: Notice.

SUMMARY: In accordance with 37 CFR 404.6 and 404.7, announcement is made of the availability for licensing of U.S. Patent Application No. 10/077,804 entitled “Method for Treating, Preventing, or Inhibiting Enterotoxigenic Escherichia Coli Infections with Bovine Erythrocyte Preparations,” filed February 20, 2002. The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: This invention relates generally to bovine erthrocyte preparations. In particular, the present invention relates to methods of using bovine erythrocyte preparations for treating, preventing, or inhibiting enterotoxigenic Escherichia coli infections.

Luz D. Ortiz,
Army Federal Register Liaison Officer.

[FR Doc. 03-3244 Filed 2-7-03; 8:45 am]

BILLING CODE 3710-08-M